DEPARTMENT OF ENERGY

Federal Energy Regulatory Commission

Combined Notice of Filings

Take notice that the Commission has received the following Natural Gas Pipeline Rate and Refund Report filings:

Filings Instituting Proceedings

Docket Numbers: RP25-333-000.

Applicants: NEXUS Gas Transmission, LLC.

Description: 4(d) Rate Filing: Negotiated Rates—Various Releases eff 1-1-2025 to be effective 1/1/2025.

Filed Date: 1/2/25.

Accession Number: 20250102-5218.

Comment Date: 5 p.m. ET 1/14/25.

Docket Numbers: RP25-334-000.

Applicants: Rockies Express Pipeline LLC.

Description: 4(d) Rate Filing: REX 2025-01-02 Negotiated Rate Agreement Amendment to be effective 1/1/2025.

Filed Date: 1/2/25.

Accession Number: 20250102-5233.

Comment Date: 5 p.m. ET 1/14/25.

Docket Numbers: RP25-335-000.

Applicants: Algonquin Gas Transmission, LLC.

Description: 4(d) Rate Filing: Negotiated Rates—Various Releases eff 1-1-25 to be effective 1/1/2025.

Filed Date: 1/2/25.

Accession Number: 20250102-5239.

Comment Date: 5 p.m. ET 1/14/25.

Docket Numbers: RP25-336-000.

Applicants: Rover Pipeline LLC.

Description: 4(d) Rate Filing: Summary of Negotiated Rate Capacity Release Agreements 1-2-2025 to be effective 1/1/2025.

Filed Date: 1/2/25.

Accession Number: 20250102-5243.

Comment Date: 5 p.m. ET 1/14/25.

Docket Numbers: RP25-337-000.

Applicants: Dauphin Island Gathering Partners.

Description: 4(d) Rate Filing: NAESB Compliance and Admin Chngs Post-Acquisition by WFS to be effective 2/1/2025.

Filed Date: 1/2/25.

Accession Number: 20250102-5249.

Comment Date: 5 p.m. ET 1/14/25.

Docket Numbers: RP25-338-000.

Applicants: Maritimes & Northeast Pipeline, L.L.C.

Description: 4(d) Rate Filing: Negotiated Rates—Northern to NRG Bus Mktg—eff 1-1-25 to be effective 1/1/2025.

Filed Date: 1/2/25.

Accession Number: 20250102-5257.

Comment Date: 5 p.m. ET 1/14/25.

Docket Numbers: RP25-339-000.

Applicants: Texas Gas Transmission, LLC.

Description: 4(d) Rate Filing: Cap Rel Neg Rate Agmt (Sabine 35030 to ARM 58751) to be effective 1/1/2025.

Filed Date: 1/2/25.

Accession Number: 20250102-5267.

Comment Date: 5 p.m. ET 1/14/25.

Docket Numbers: RP25-340-000.

Applicants: Gulf South Pipeline Company, LLC.

Description: 4(d) Rate Filing: Cap Rel Neg Rate Agmt (Methanex 42805 to NextEra 58756) to be effective 1/1/2025.

Filed Date: 1/2/25.

Accession Number: 20250102-5272.

Comment Date: 5 p.m. ET 1/14/25.

Docket Numbers: RP25-341-000.

Applicants: ANR Pipeline Company.

Description: 4(d) Rate Filing: ANR—Koch Energy 141622 Negotiated Rate Agreement to be effective 1/3/2025.

Filed Date: 1/3/25.

Accession Number: 20250103-5035.

Comment Date: 5 p.m. ET 1/15/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-78-017.

Applicants: Panhandle Eastern Pipe Line Company, LP.

Description: Compliance filing: RP19-78-000 Adjusted Refund Report to be effective N/A.

Filed Date: 1/3/25.

Accession Number: 20250103-5033.

Comment Date: 5 p.m. ET 1/15/25.

Docket Numbers: RP25-189-001.

Applicants: Columbia Gulf Transmission, LLC.

Description: Compliance filing: Compliance on NC Agmt—Range Resources to be effective 12/16/2024.

Filed Date: 1/3/25.

Accession Number: 20250103-5036.

Comment Date: 5 p.m. ET 1/15/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 3, 2025.
Debbie-Anne A. Reese,
Secretary.

[FR Doc. 2025-00355 Filed 1-8-25; 8:45 am]

BILLING CODE 6717-01-P